DEPARTMENT OF THE INTERIOR

Fish and Wildlife Service

[Docket No. FWS-HQ-IA-2021-0008; FXIA16710900000-FF09A30000-223]

Conference of the Parties to the Convention on International Trade in Endangered Species of Wild Fauna and Flora (CITES); Nineteenth Regular Meeting; Tentative U.S. Negotiating Positions for Agenda Items and Species Proposals Submitted by Foreign Governments, the Permanent CITES Committees, and the CITES Secretariat

AGENCY: Fish and Wildlife Service, Interior.

ACTION: Notice.

SUMMARY: The United States, as a Party to the Convention on International Trade in Endangered Species of Wild Fauna and Flora (CITES), will attend the nineteenth regular meeting of the Conference of the Parties to CITES (CoP19) in Panama City, Panama, November 14-25, 2022. This notice announces the availability of tentative U.S. negotiating positions on proposed resolutions, decisions, and amendments to the CITES Appendices (species proposals), as well as other agenda items that have been submitted by other Parties, the permanent CITES committees, and the CITES Secretariat for consideration at CoP19. With this notice, we announce that prior to CoP19 we will make available a summary of our proposed negotiating positions and the reasons for our proposed positions.

DATES: The nineteenth regular meeting of the Conference of the Parties to CITES (CoP19) will be held November 14-25, 2022. Information on tentative U.S. negotiating positions on species proposals, draft resolutions and decisions, and agenda items will be available on our website and the Federal eRulemaking Portal on or before November 13, 2022.

ADDRESSES: Information on tentative U.S. negotiating positions on species proposals, draft resolutions and decisions, and agenda items submitted by other countries, the permanent CITES committees, and the CITES Secretariat for consideration at CoP19 will be available on our website, https://www.fws.gov/program/cites/conference-parties-cites, and via the Federal eRulemaking Portal at https://www.regulations.gov in Docket No. FWS-HQ-IA-2021-0008 (the docket number for this notice).

FOR FURTHER INFORMATION CONTACT: For information pertaining to resolutions, decisions, and other agenda items, contact Naimah Aziz, Chief, Division of Management Authority; telephone 703-358-2095; email managementauthority@fws.gov. For information pertaining to species proposals, contact Rosemarie Gnam, Chief, Division of Scientific Authority; telephone 703-358-1708; email scientificauthority@fws.gov.

SUPPLEMENTARY INFORMATION:

Background

The Convention on International Trade in Endangered Species of Wild Fauna and Flora, hereinafter referred to as CITES or the Convention, is an international treaty designed to control and regulate international trade in certain animal and plant species that are or may be affected by trade and are now, or potentially may become, threatened with extinction. These species are included in Appendices to CITES, which can be found on the CITES Secretariat's website at https://cites.org/eng/app/appendices.php.

Currently there are 184 Parties to CITES—183 countries and 1 regional economic integration organization, the European Union. The Convention calls for regular biennial meetings of the Conference of the Parties, unless the Conference decides otherwise. At these meetings, the Parties review the implementation of CITES, make provisions enabling the CITES Secretariat in Switzerland to carry out its functions, consider amendments to the list of species in appendices I and II, consider reports presented by the Secretariat and the permanent CITES committees (Standing, Animals, and Plants Committees), and make recommendations to improve the effectiveness of CITES. Any country that is a Party to CITES may propose amendments to appendices I and II, as well as resolutions, decisions, and agenda items for consideration by all the Parties at the meetings.

CoP19 Federal Register Notices

This is our fifth in a series of Federal Register notices on the development of U.S. submissions and tentative negotiating positions for CoP19. In this notice, we announce the availability of tentative U.S. negotiating positions on species proposals, draft resolutions and decisions, and agenda items submitted by other Parties, the permanent CITES committees, and the Secretariat for consideration at CoP19. We published our first CoP19-related Federal Register notice on March 2, 2021 (86 FR 12199), in which we requested information and recommendations on animal and plant species proposals and proposed resolutions, decisions, and agenda items for the United States to consider submitting for consideration at CoP19. We published our second CoP19-related Federal Register notice on March 7, 2022 (87 FR 12719); that notice described proposed resolutions, decisions, and agenda items that the United States might submit for consideration at CoP19 and provided information on how U.S. nongovernmental organizations can attend CoP19 as observers. In our third CoP19-related Federal Register notice, published on April 26, 2022 (87 FR 24577), we responded to recommendations received from the public concerning proposed amendments to the CITES Appendices (species proposals) that the United States might submit for consideration at CoP19 and invited public comments and information on these proposals. In our fourth CoP19-related Federal Register notice, published on August 22, 2022 (87 FR 51441), we announced the provisional agenda for CoP19, solicited comments on the items on the provisional agenda, and announced a virtual public meeting on September 6, 2022.

A link to the complete list of those Federal Register notices, along with information on U.S. preparations for CoP19, can be found at https://www.fws.gov/program/cites/conference-parties-cites. The notices and public comments received can be viewed at https://www.regulations.gov in Docket No. FWS-HQ-IA-2021-0008. Our regulations governing this public process are found in title 50 of the Code of Federal Regulations (CFR) at 50 CFR 23.87. Pursuant to 50 CFR 23.87(a)(3)(iii), with this notice we are announcing that on or before November 13, 2022, we will post on https://www.regulations.gov (see Docket No. FWS-HQ-IA-2021-0008) and on our website (https://www.fws.gov/program/cites/conference-parties-cites) a summary of our tentative negotiating positions on the items included on the CoP19 agenda and proposed amendments to the Appendices, and the reasons for our tentative positions.

Announcement of Provisional Agenda for CoP19

The provisional agenda for CoP19 can be accessed on the CITES Secretariat's website at https://cites.org/eng/cop/19/agenda-documents. The working documents associated with the items on the provisional agenda, including proposed resolutions, proposed decisions, and discussion documents, are also available on that website. The species proposals to be considered at CoP19 are also available on the Secretariat's website and can be accessed at https://cites.org/eng/cop/19/amendment-proposals.

Tentative Negotiating Positions

On or before November 13, 2022, we will post on https://www.regulations.gov (see Docket No. FWS-HQ-IA-2021-0008) and on our website (https://www.fws.gov/program/cites/conference-parties-cites) a summary of our tentative negotiating positions on the items included on the CoP19 agenda and proposed amendments to the Appendices, and the reasons for our tentative positions. Documents submitted by the United States either alone or as a co-proponent for consideration by the Parties at CoP19 can be found on the Secretariat's website at https://cites.org/eng/meetings/cop. Those documents are: Documents CoP19 Docs. 29.2.2, 52 (co-sponsored by Canada, Côte d'Ivoire, Kenya, Mexico, Nigeria, and Senegal), 55, 64.2 (co-sponsored by Brazil, Colombia, Costa Rica, and Peru), 66.7 (co-sponsored by Malawi and Senegal), and 69.2 (co-sponsored by Maldives, Monaco, Nigeria, Peru, Senegal, Sri Lanka, Togo, and the United Kingdom). The United States also submitted or co-sponsored the following proposals: Proposals CoP19 Props. 7, 9 (co-sponsored with Malaysia and Singapore), 10, 17, 20, 21, 23, 24, 29 (co-sponsored with Brazil, Colombia, Costa Rica, El Salvador, Mexico, and Panama), 31, 32, 34 (co-sponsored with Argentina, Brazil, Costa Rica, Côte d'Ivoire, Dominican Republic, Ecuador, El Salvador, Gabon, Guinea, Niger, Panama, Peru, and Togo), 42 (co-sponsored with European Union and Seychelles), and 45 (co-sponsored with China, European Union, Ukraine, and United Kingdom). We will not provide any additional explanation of the U.S. negotiating positions for documents and proposals that the United States submitted or co-sponsored. The introduction in the text of each of those documents includes a discussion of the background of the issue and the rationale for submitting the document.

New information that may become available prior to or at CoP19 could lead to modifications of tentative U.S. positions. The U.S. delegation will disclose changes in our negotiating positions and the explanations for those changes during public briefings at CoP19. Species proposals are considered pursuant to 50 CFR 23.89. The United States is concerned about the budgetary implications and workload burden that will be placed upon the Parties, the Committees, and the Secretariat, and intends to evaluate all proposed resolutions, decisions, and other agenda items for CoP19 in view of these concerns.

Information on CoP19 Results

Information concerning the results of CoP19 will be available after the close of the meeting on the Secretariat's website at http://www.cites.org, or upon request from the Division of Management Authority (see FOR FURTHER INFORMATION CONTACT), or on our website (https://www.fws.gov/program/cites/conference-parties-cites).

Author

The primary author of this notice is Anne St. John, Division of Management Authority, U.S. Fish and Wildlife Service.

Signing Authority

Martha Williams, Director of the U.S. Fish and Wildlife Service, approved this action on October 19, 2022, for publication. On October 26, 2022, Martha Williams authorized the undersigned to sign the document electronically and submit it to the Office of the Federal Register for publication as an official document of the U.S. Fish and Wildlife Service.

Authority

The authority for this action is the Endangered Species Act of 1973, as amended (16 U.S.C. 1531 et seq.).

Madonna Baucum,
Chief, Policy and Regulations Branch, U.S. Fish and Wildlife Service.

[FR Doc. 2022-23668 Filed 10-31-22; 8:45 am]

BILLING CODE 4333-15-P